DEPARTMENT OF THE INTERIOR

Bureau of Land Management

[NV-930-1430-EU; N-66786]

Notice of Realty Action; Nevada; Direct Sale of Public Lands in Nye County

AGENCY: Bureau of Land Management, Department of the Interior.

ACTION: Direct Sale of Public Lands in Nye County, Nevada.

SUMMARY: The following described land near Beatty, Nye County, Nevada, has been examined and found suitable for disposal by direct sale, at the appraised fair market value, to James Key, resident of Beatty, Nevada. The sale is authorized under Section 203 and Section 209 of the Federal Land Policy and Management Act (FLPMA) of October 21, 1976 (43 U.S.C. 1713 and 1719):

Mount Diablo Meridian, Nevada

T. 12 S., R. 47 E.,

Section 8, NW¼SW¼NW¼SW¼;

comprising 2.5 acres, more or less.

The land will not be offered for sale until at least 60 days after the date of publication of this notice in the Federal Register.

FOR FURTHER INFORMATION CONTACT: Charles Wright, Realty Specialist, Bureau of Land Management, Tonopah Field Station, P.O. Box 911, 1553 South Main Street, Tonopah, NV, 89049.

SUPPLEMENTARY INFORMATION: The land has been identified as suitable for disposal within the Tonopah Resource Management Plan. The land is not needed for any resource program and is not suitable for management by the Bureau or another Federal department or agency. An environmental assessment which analyzes potential impacts from this action has been prepared and is available for review at the address shown above.

The mineral estate, has been determined to have no known value. Therefore, the mineral estate will be conveyed simultaneously with the surface estate in accordance with Section 209(b)(1) of Federal Land Policy and Management Act of 1976. Acceptance of the sale offer will constitute application for conveyance of the mineral interests. The sale proponent will be required to submit a $50.00 non-refundable filing fee for conveyance of the mineral interests with the purchase price for the land. Failure to submit the non-refundable fee for the mineral estate within the time frame specified by the authorized officer will result in cancellation of the sale.

Upon publication of this Notice of Realty Action in the Federal Register, the lands will be segregated from all forms of appropriation under the public land laws, including the mining laws, but not the mineral leasing laws or disposals pursuant to Sections 203 and 209 of FLPMA. The segregation shall terminate upon issuance of a patent or other document of conveyance, upon publication in the Federal Register of a termination of segregation, or 270 days from date of this publication, which ever occurs first.

Patent, if issued, will be subject to the following third party rights:

Excepting and Reserving to the United States:

A right-of-way thereon for ditches or canals constructed by the authority of the United States. Act of August 30, 1980 (43 U.S.C. 945).

Subject to:

All valid existing rights.

For a period of 45 days from the date of publication in the Federal Register, interested parties may submit comments to the Assistant Field Manager, Tonopah Field Station, P.O. Box 911, Tonopah, NV 89049. Any adverse comments will be evaluated by the State Director, who may sustain, vacate or modify this realty action and issue a final determination. In the absence of timely filed objections, this realty action will become a final determination of the Department of the Interior.

Dated: May 4, 2001.
W. Craig MacKinnon,
Assistant Field Manager.

[FR Doc. 01-12511 Filed 5-17-01; 8:45 am]

BILLING CODE 4310-HC-P